FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Fidelity Logistics Corp., 20 W. Lincoln Ave., Ste. 302, Valley Stream, NY 11580, Officer: Chenbang Lee, Vice President, (Qualifying Individual).

Intimove Inc., 1880 NE. 170 Street, North Miami Beach, FL 33162, Officer: David Etzion, President, (Qualifying Individual).

Transportes Zuleta, Inc., 844 W. Flagler Street, Miami, FL 33130, Officers: Lourdes Callejas, Secretary, (Qualifying Individual), Jacqueline Morales, President.

South Florida Logistic Partners, 330 SW 27th Avenue, #605, Miami, FL 33133, Officer: Manuel D. Perez, President, (Qualifying Individual).

Alto Air Freight, Inc., 145 Hook Creek Blvd., Building B6A, Valley Stream, NY 11581, Officers: Rose Pierini, Vice President, (Qualifying Individual), Neil Silver, President.

Veco Logistics Miami, Inc., 8375 NW. 68 Street, Miami, FL 33166, Officers: Zuny Hernandez, Treasurer, (Qualifying Individual), Zoraida E. Serrano, President.

Fast Track Worldwide Logistics, Inc., 1841 NW. 93rd Avenue, Miami, FL 33172, Officer: Niurka Alvarado, President, (Qualifying Individual).

Speedway Freight Services, Inc., 144-26 150th Street, Jamaica, NY 11434, Officer: Woong C. Kang, President, (Qualifying Individual).

Fidelity Logistics Corp., 20 W. Lincoln Avenue, Valley Stream, NY 11580, Officer: Chenbang Lee, Vice President, (Qualifying Individual).

Non-Vessel Operating Common Carrier and Ocean Freight Forwarder Transportation Intermediary Applicants

Lion Transport, Inc., 1835 NW. 112 Avenue, Ste. 176, Doral, FL 33172, Officer: Silvia E. Bustamante, President, (Qualifying Individual).

Charter 3 Global, LLC, 1420 Hillcrest Avenue, Kalamazoo, MI 49008, Officers: Michiharu Yoshikawa, Vice President, (Qualifying Individual), Bill Hammons, Jr., President.

Morrison Express Corporation, 2000 Hughes Way, El Segundo, CA 90245, Officer: William F. Woods, Jr., Director, (Qualifying Individual).

Dyno Global Projects, LLC, 99 Morris Avenue, Springfield, NJ 07081, Officer: George Meier, Member, (Qualifying Individual).

STD Logistics, LTD, One Cross Island Plaza, #304, Jamaica, NY 11422, Officer: Sheldon Stone, President, (Qualifying Individual).

All Services & Merchandise Corp dba Cargo Mundo, 2840 NW. 108 Avenue, Miami, FL 33172, Officer: Henry A. Herrera, President.

Connected International, Inc., 6250 W. Century Blvd., Ste. 213, Los Angeles, CA 90045, Officers: Hung F. Dai, President, (Qualifying Individual), Matthew Timmer, Secretary.

TMO Global Logistics, LLC, 600 Peter Jefferson Parkway, #310, Charlottesville, VA 22911, Officer: Christopher M. Ball, Vice President, (Qualifying Individual).

Seaport Int'l Freight Consolidators, Inc., dba Seaport Int'l Freight Consolidators, dba Seaport Int'l Freight Forwarder & Consollidators, 10230 SW 20th Street, Miramar, FL 33025, Officers: Winston Barrett, Treasurer, (Qualifying Individual), Floyd O. Chin, President.

Nor-Cargo US, Inc., 3340-B Greens Road, Ste. 605, Houston, TX 77032, Officer: Sten Svendsen, President, (Qualifying Individual).

1 Trade Fwding Inc. dba 1 Trade Logistics, 751 Port America Place, #650, Grapevine, TX 76051, Officer: Juan Arango, Vice President, (Qualifying Individual).

Mainfreight, Inc., 1400 Glenn Curtiss Street, Carson, CA 90746, Officer: Christopher A. Coopersmith, President.

Montes Conection dba Montes Forwarding, 1050 Front Street, Slidell, LA 70458, Officers: Maria V. Montes, President, (Qualifying Individual), Juan M. Montes, Vice President.

Litmark, Inc., 718 Lane Avenue N., Jacksonville, FL 32254, Officer: Alfredas Tamole, President, (Qualifying Individual).

Ocean Freight Forwarder—Ocean Transportation Intermediary Applicants

Fracht FWO Inc., 29 W. 30th Street, 12th Floor, New York, NY 10001, Officer: Werner H.J. Seyfried, Vice President, (Qualifying Individual).

Customs Cleared Company, Inc., 2753 S. Mendenhall, #11F, Memphis, TN 38115, Officer: Karen Wood, President, (Qualifying Individual).

South Florida Freight Forwarding, 330 SW 27th Avenue, #605, Miami, FL 33135, Officer: Manuel D. Perez, President, (Qualifying Individual).

Dated: July 3, 2008.
Karen V. Gregory,
Assistant Secretary.

[FR Doc. E8-15568 Filed 7-8-08; 8:45 am]

BILLING CODE 6730-01-P